FEDERAL DEPOSIT INSURANCE CORPORATION

[Request 3064-0083, -0085, & -0120]

Agency Information Collection Activities: Submission for OMB Review; Comment

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. chapter 35). On March 31, 2014, (79 FR 18027), the FDIC requested comment for 60 days on a proposal to renew the following information collections: Recordkeeping and Disclosure Requirements in Connection with Regulation M (Consumer Leasing) (3064-0083), Recordkeeping and Disclosure Requirements in Connection with Regulation B (Equal Credit Opportunity) (3064-0085) & Flood Insurance (3064-0120). No comments were received. The FDIC hereby gives notice of its plan to submit to OMB a request to approve the renewal of these collections, and again invites comment on this renewal.

DATES: Comments must be submitted on or before September 2, 2014.

ADDRESSES: Interested parties are invited to submit written comments to the FDIC by any of the following methods:

• http://www.FDIC.gov/regulations/laws/federal/

• Email: comments@fdic.gov Include the name and number of the collection in the subject line of the message.

• Mail: Gary A. Kuiper (202.898.3877), Counsel, Room NYA-5046, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION: Proposal to renew the following currently-approved collections of information:

1. Title: Recordkeeping and Disclosure Requirements in Connection with Regulation M (Consumer Leasing).

OMB Number: 3064-0083.

Frequency of Response: On occasion.

Affected Public: State nonmember banks and state savings associations engaging in consumer leasing.

Estimated Number of Respondents: 1,959.

Estimated Time per Response: 75 hours.

Total Annual Burden: 146,925 hours.

General Description of Collection: Regulation M (12 CFR 213), issued by the Board of Governors of the Federal Reserve System, implements the consumer leasing provisions of the Truth in Lending Act.

2. Title: Recordkeeping and Disclosure Requirements in Connection with Regulation B (Equal Credit Opportunity).

OMB Number: 3064-0085.

Frequency of Response: On occasion.

Affected Public: State nonmember banks and state savings associations engaging in credit transactions.

Estimated Number of Respondents: 4,398.

Estimated Time per Response: 137 hours.

Total Annual Burden: 602,389 hours.

General Description of Collection: Regulation B (12 CFR Part 202), issued by the Board of Governors of the Federal Reserve System, prohibits creditors from discriminating against applicants on any of the bases specified by the Equal Credit Opportunity Act, establishes guidelines for gathering and evaluating credit information, and requires creditors to give applicants a written notification of rejection of an application.

3. Title: Flood Insurance.

OMB Number: 3064-0120.

Frequency of Response: On occasion.

Affected Public: Any depository institution that makes one or more loans to be secured by a building located on property in a special flood hazard area.

Estimated Number of Respondents/Recordkeepers: 4,421.

Estimated Reporting Hours: 4,421 × 17.41 hours = 76,999.

Estimated Recordkeeping Hours: 4,421 × 14 hours = 61,894 hours.

Estimated Total Annual Reporting and Recordkeeping Burden Hours: 76,999 + 61,894 = 138,893 hours.

General Description of Collection: Each supervised lending institution is currently required to provide a notice of special flood hazards to each borrower with a loan secured by a building or mobile home located or to be located in an area identified by the Director of the Federal Emergency Management Agency as being subject to special flood hazards. The Riegle Community Development Act requires that each institution must also provide a copy of the notice to the servicer of the loan (if different from the originating lender).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 27th day of June, 2014.
Federal Deposit Insurance Corporation.
Robert E. Feldman,
Executive Secretary.

[FR Doc. 2014-15622 Filed 7-2-14; 8:45 am]

BILLING CODE 6714-01-P